DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Business R&D and Innovation Survey.

OMB Control Number: 0607-0912.

Form Number(s): BRDI-1, BRDI-1(S).

Type of Request: Revision of a currently approved collection.

Number of Respondents: BRDI-1 = 7,000; BRDI-1(S) = 38,000.

Average Hours per Response: BRDI-1 = 15 hours; BRDI-1(S) = 38 minutes.

Burden Hours: 126,500.

Needs and Uses: The Census Bureau is requesting clearance to conduct the Business R&D and Innovation Survey (BRDIS) for the 2015-2017 survey years with the revisions outlined in this document. Companies are the major performers of research and development (R&D) in the United States, accounting for over 70 percent of total U.S. R&D outlays each year. A consistent business R&D information base is essential to government officials formulating public policy, industry personnel involved in corporate planning, and members of the academic community conducting research. To develop policies designed to promote and enhance science and technology, past trends and the present status of R&D must be known and analyzed. Without comprehensive business R&D statistics, it would be impossible to evaluate the health of science and technology in the United States or to make comparisons between the technological progress of our country and that of other nations.

The National Science Foundation Act of 1950 as amended authorizes and directs the National Science Foundation (NSF) “. . . to provide a central clearinghouse for the collection, interpretation, and analysis of data on scientific and engineering resources and to provide a source of information for policy formulation by other agencies of the Federal government.” One of the methods used by NSF to fulfill this mandate is The Business R&D and Innovation Survey (BRDIS)—the primary federal source of information on R&D in the business sector. NSF together with the Census Bureau, the collecting and compiling agent, analyze the data and publish the resulting statistics.

NSF has published annual R&D statistics collected from the Survey of Industrial Research and Development (1953-2007) and BRDIS (2008-2014) for 61 years. The results of the surveys are used to assess trends in R&D expenditures by industry sector, investigate productivity determinants, formulate science and tax policy, and compare individual company performance with industry averages. This survey is the Nation's primary source for international comparative statistics on business R&D spending.

BRDIS will continue to collect the following types of information:

• R&D expense based on accounting standards.

• Worldwide R&D of domestic companies.

• Business segment detail.

• R&D related capital expenditures.

• Detailed data about the R&D workforce.

• R&D strategy and data on the potential impact of R&D on the market.

• R&D directed to application areas of particular national interest.

• Data measuring innovation and intellectual property protection activities.

The following changes will be made to the 2015-2017 BRDIS compared to the 2014 BRDIS:

• Section 3: Adding question on domestic R&D performed by others and paid for by the Federal Government.

• Section 4: Deleting four questions on R&D with technology focus of photonics/optics.

• Section 4: Adding four questions on the Research/Development split for foreign R&D.

Information from BRDIS will continue to support the America COMPETES Reauthorization Act of 2010 as well as other R&D-related initiatives introduced during the clearance period. Other initiatives that have used BRDIS statistics include: The Innovation Measurement—Tracking the State of Innovation in the American Economy (U.S. Department of Commerce); Science of Science and Innovation Policy (NSF); and Rising Above the Gathering Storm (National Research Council).

Policy officials from many Federal agencies rely on these statistics for essential information. Businesses and trade organizations rely on BRDIS data to benchmark their industry's performance against others. For example, total U.S. R&D expenditures statistics have been used by the Bureau of Economic Analysis (BEA) to update the National Income and Product Accounts (NIPAs) and, in fact, the BEA recently has recognized and incorporated R&D as fixed investment in the NIPA. Accurate R&D data are needed to continue the development and effect subsequent updates to this detailed satellite account. Also, NSF, BEA and the Census Bureau periodically update a data linking project that utilizes BRDIS data to augment global R&D investment information that is obtained from BEA's Foreign Direct Investment (FDI) and U.S. Direct Investment Abroad (USDIA) surveys. Further, the Census Bureau links data collected by BRDIS with other statistical files. At the Census Bureau, historical company-level R&D data are linked to a file that contains information on the outputs and inputs of companies' manufacturing plants. Researchers are able to analyze the relationships between R&D funding and other economic variables by using micro-level data.

Individuals and organizations access the survey statistics via the Internet in annual InfoBriefs published by NSF's National Center for Science and Engineering Statistics (NCSES) that announce the availability of statistics from each cycle of BRDIS and detailed statistical table reports that contain all of the statistics NSF produces from BRDIS. Information about the kinds of projects that rely on statistics from BRDIS is available from internal records of NSF's NCSES. In addition, survey statistics are regularly cited in trade publications and many researchers use the survey statistics from these secondary sources without directly contacting NSF or the Census Bureau.

Affected Public: Business or other for profit.

Frequency: Annually.

Respondent's Obligation: Mandatory.

Legal Authority: Title 13, United States Code, Sections 8(b), 131, and 182, and Title 42, United States Code, Sections 1861-76 (National Science Foundation Act of 1950, as amended).

This information collection request may be viewed at www.reginfo.gov. Follow the instructions to view Department of Commerce collections currently under review by OMB.

Written comments and recommendations for the proposed information collection should be sent within 30 days of publication of this notice to OIRA_Submission@omb.eop.gov or fax to (202)395-5806.

Dated: October 29, 2015.
Glenna Mickelson,
Management Analyst, Office of the Chief Information Officer.

[FR Doc. 2015-27962 Filed 11-2-15; 8:45 am]

BILLING CODE 3510-07-P